DEPARTMENT OF AGRICULTURE

Commodity Credit Corporation

Interim Guidelines and Funds Availability for Projects Involving the Local and Regional Procurement of Food Aid

AGENCY: Foreign Agricultural Service and Commodity Credit Corporation, USDA.

ACTION: Notice of Availability and request for comments.

SUMMARY: This notice announces that the Foreign Agricultural Service (FAS), on behalf of the Commodity Credit Corporation (CCC), is issuing a set of guidelines for the administration and implementation of Local and Regional Food Aid Procurement Pilot Project (PPP) authorized under the Food, Conservation, and Energy Act of 2008. FAS will provide CCC funds in the form of grants to qualified organizations during FY 2009 through FY 2011 for the implementation of field-based projects under the PPP to meet the food needs of targeted vulnerable groups. The “Interim Guidelines for the Local and Regional Food Aid Procurement Project” can be found at http://www.fas.usda.gov/food-aid.asp. The Interim Guidelines are intended to guide the application and implementation of field projects in developing countries that involve the local and regional procurement of food aid. Field projects will be funded primarily to expedite the provision of food aid to vulnerable populations affected by food crises and disasters. A secondary purpose will be to provide development assistance that will enhance the food consumption security of such populations. The Interim Guidelines inform prospective participants about the qualification criteria and application process, as well as procedures and requirements for project implementation, monitoring and reporting. This notice formally requests public review of and comments on the Interim Guidelines.

DATES: The Interim Guidelines will be effective immediately upon publication of this notice in the Federal Register. Eligible organizations may submit applications for qualification and funding for field-based projects following the date of publication. Members of the public must submit comments on the Interim Guidelines on or before October 21, 2009. FAS will consider comments received by this date and then issue final guidelines for the Local and Regional Procurement Pilot Project.

ADDRESSES: Comments may be submitted by any of the following methods:

• E-Mail to: LRP@fas.usda.gov or Jamie.Fisher@fas.usda.gov;

• Fax: (202) 690-0251;

• U.S. Postal Delivery: Jamie Fisher, Food Assistance Division, Foreign Agricultural Service, U.S. Department of Agriculture, Stop 1034, 1400 Independence Avenue, SW., Washington, DC 20250-1034; and

• Hand Delivery or Courier: Jamie Fisher, Food Assistance Division, Foreign Agricultural Service, U.S. Department of Agriculture, 1250 Maryland Avenue, SW., Suite 400, Washington, DC 20024.

For comments on the Interim Guidelines, please include the volume, date, and page number of this Federal Register notice. Comments may be inspected in the Office of the Director, Food Assistance Division, Foreign Agricultural Service, U.S. Department of Agriculture, 1250 Maryland Avenue, SW., Washington, DC 20250 between 8 a.m. and 4:30 p.m., Monday through Friday, except holidays.

FOR FURTHER INFORMATION CONTACT: Jamie Fisher, Program Analyst, Food Assistance Division, Foreign Agricultural Service, U.S. Department of Agriculture, Stop 1034, 1400 Independence Avenue, SW., Washington, DC 20250-1034; phone (202) 720-5620; by fax: (202) 690-0251; or by e-mail: Jamie.Fisher@fas.usda.gov.

FAS intends to hold information and feedback sessions pertaining to the Interim Guidelines shortly after their issuance. Interested organizations should immediately consult http://www.fas.usda.gov/food-aid.asp after the issuance of the Interim Guidelines for specific information about the date, time, and location of these information sessions. Other announcements regarding the PPP will be posted at this address over the life of the Project.

The USDA prohibits discrimination in its programs on the basis of race, color, national origin, sex, religion, age, disability, political beliefs, marital, or familial status. Persons with disabilities who require alternative means for communication of program information (Braille, large print, audiotape, etc.) should contact the USDA Office of Communications at (202) 720-5881 (voice) or (202) 720-7808 (TDD).

SUPPLEMENTARY INFORMATION: The Interim Guidelines for the PPP are intended to accomplish the following objectives:

1. Set forth the criteria for eligible organizations to apply to become qualified to submit applications for funding of a field-based project.

2. Inform qualified organizations about the requirements for the submission of applications for funding field-based emergency response projects, development assistance projects, or both.

3. Set forth the implementation guidelines and performance and reporting requirements.

4. Establish minimum quality standards for eligible commodities.

5. Allow for sufficient flexibility for participants to expedite the provision of food assistance to populations affected by food crises and disasters and to facilitate the recovery of market systems that directly affect food consumption.

6. Provide guidance to ensure that local and regional purchases:

• Expedite the provision of food to vulnerable populations;

• Do not increase the price of food for low-income consumers;

• Do not disrupt global agricultural commodity markets;

• Do not disrupt normal patterns of commercial trade; and

• Do not serve as a disincentive that substantially undermines the agricultural production levels of farmers in the recipient country or in a neighboring country in the region.

7. Identify the types of data and information that implementing organizations must collect for the independent evaluation of the PPP.

Dated: August 24, 2009.
Michael V. Michener,
Administrator, Foreign Agricultural Service, and Vice President, Commodity Credit Corporation.

[FR Doc. E9-22615 Filed 9-16-09; 4:15 pm]

BILLING CODE 3410-10-P